DEPARTMENT OF COMMERCE

Foreign-Trade Zones Board

[Order No. 1537]

Approval of Expansion of Authority for Subzone 57B; Volvo Construction Equipment North America, Inc. (Construction Equipment); Skyland, NC

Pursuant to its authority under the Foreign-Trade Zones Act of June 18, 1934, as amended (19 U.S.C. 81a-81u), the Foreign-Trade Zones Board (the Board) adopts the following Order:

Whereas, Volvo Construction Equipment North America, Inc. (Volvo CENA), operator of FTZ Subzone 57B, has requested authority to expand capacity and the scope of manufacturing authority under zone procedures within Subzone 57B at the company's facilities in Skyland, North Carolina (FTZ Docket 20-2007, filed 5/30/07);

Whereas, notice inviting public comment has been given in the Federal Register (72 FR 31051, 6/5/07); and,

Whereas, the Board adopts the findings and recommendations of the examiner's report, and finds that the requirements of the FTZ Act and the Board's regulations are satisfied, and that approval of the application is in the public interest;

Now, therefore, the Board hereby approves the expansion of capacity and scope of manufacturing authority under zone procedures within Subzone 57B at the Volvo CENA plant located in Skyland, North Carolina, as described in the application and the Federal Register notice, subject to the FTZ Act and the Board's regulations, including section 400.28.

Signed at Washington, DC, this 30th day of November 2007.
David M. Spooner,
Assistant Secretary of Commerce for Import Administration, Alternate Chairman. Foreign-Trade Zones Board.
Andrew McGilvray,
Executive Secretary.

[FR Doc. E7-23798 Filed 12-6-07; 8:45 am]

BILLING CODE 3510-DS-P